DEPARTMENT OF ENERGY

Federal Energy Regulatory Commission

[Docket No. GT02-35-000

Tennessee Gas Pipeline Company; Notice of Technical Conference

October 10, 2002.

In the Commission's order issued on September 13, 2002,¹ the Commission directed that a technical conference be held to address issues raised by the filing.

¹ Tennessee Gas Pipeline Company, 100 FERC ¶ 61,268 (2002).

Take notice that the technical conference will be held on Tuesday, November 5, 2002, at 10:30 am, in a room to be designated at the offices of the Federal Energy Regulatory Commission, 888 First Street, NE., Washington, DC 20426.

All interested parties and Staff are permitted to attend.

Linwood A. Watson, Jr.,
Deputy Secretary.

[FR Doc. 02-26388 Filed 10-16-02; 8:45 am]

BILLING CODE 6717-01-P